DEPARTMENT OF COMMERCE

International Trade Administration

[A-570-853]

Notice of Amended Final Determination of Sales at Less Than Fair Value: Bulk Aspirin From the People's Republic of China

AGENCY: Import Administration, International Trade Administration, Department of Commerce.

EFFECTIVE DATE: June 27, 2000.

FOR FURTHER INFORMATION CONTACT: Rosa Jeong or Ryan Langan, Import Administration, International Trade Administration, U.S. Department of Commerce, Washington, DC 20230; telephone: (202) 482-3853 or 482-1279, respectively.

SUPPLEMENTARY INFORMATION:

The Applicable Statute and Regulations

Unless otherwise indicated, all citations to the statute are references to provisions of the Tariff Act of 1930 (“the Act”) as amended by the Uruguay Round Agreements Act (“URAA”). In addition, unless otherwise indicated, all citations to the Department of Commerce's (“the Department's”) regulations refer to 19 CFR part 351 (April 1999).

Scope of Investigation

The product covered by this investigation is bulk acetylsalicylic acid, commonly referred to as bulk aspirin, whether or not in pharmaceutical or compound form, not put up in dosage form (tablet, capsule, powders or similar form for direct human consumption). Bulk aspirin may be imported in two forms, as pure ortho-acetylsalicylic acid or as mixed ortho-acetylsalicylic acid. Pure ortho-acetylsalicyclic acid can be either in crystal form or granulated into a fine powder (pharmaceutical form). This product has the chemical formula C9H8O4. It is defined by the official monograph of the United States Pharmacopoeia (“USP”) 23. It is classified under the Harmonized Tariff Schedule of the United States (“HTSUS”) subheading 2918.22.1000.

Mixed ortho-acetylsalicylic acid consists of ortho-acetylsalicylic acid combined with other inactive substances such as starch, lactose, cellulose, or coloring materials and/or other active substances. The presence of other active substances must be in concentrations less than that specified for particular nonprescription drug combinations of aspirin and active substances as published in the Handbook of Nonprescription Drugs, eighth edition, American Pharmaceutical Association. This product is classified under HTSUS subheading 3003.90.0000. Although the HTSUS subheadings are provided for convenience and customs purposes, the written description of the merchandise under investigation is dispositive.

Period of Investigation

The period of investigation (“POI”) is October 1, 1998, through March 31, 1999.

Amended Final Determination

In accordance with section 735(a) of the Act, on May 25, 2000, the Department published its final determination of the antidumping duty investigation of bulk aspirin from the People's Republic of China (“PRC”) in which the Department determined that U.S. sales of bulk aspirin from the PRC were made at less than fair value (65 FR 33805 (“Final Determination”)). On June 1, 2000, we received ministerial error allegations, timely filed pursuant to 19 CFR 351.224(c)(2), from the respondents, Jilin Pharmaceutical Import and Export Corporation (“Jilin”) and Shandong Xinhua Pharmaceutical Factory (“Shandong”), regarding our final margin calculations. On June 6, 2000, we received comments on the respondents' ministerial error allegations from Rhodia Inc., the petitioner in this proceeding.

After anaylzing the submissions, we have determined in accordance with section 735(e) of the Act and 19 CFR 351.224 that we made ministerial errors in the margin calculations for both respondents. The ministerial errors include three errors alleged by Shandong pertaining to Shandong's margin calculations and two additional errors with respect to Jilin that were not raised by any party which we discovered. Specifically:

• We inadvertently neglected to offset Shandong's material cost for aspirin for recycled material inputs.

• We inadvertently added packing costs twice in the calculation of normal value of aspirin.

• We inadvertently neglected to adjust Shandong's overhead expenses caculated for salicylic acid and acetic anhydride processes for aspirin consumption rates.

• We inadvertently neglected to deduct Jilin's movement charges incurred in the United States.

• We inadvertently applied an incorrect surrogate value for freight to one of Jilin's sales.

For a detailed discussion of the ministerial error allegations and the Department's analysis, see Memorandum from Team to Richard W. Moreland, Deputy Assistant Secretary, dated June 20, 2000.

We are amending the final determination of the antidumping duty investigation of bulk aspirin from the PRC to reflect the correction of the above-cited ministerial errors. The revised final weighted-average dumping margins are as follows:

Exporter/manufacturer | Original weighted-average margin percentage | Revised weighted-average margin percentage
Shandong Xinhua Pharmaceutical Factory | 42.77 | 16.51
Jilin Pharmaceutical Co., Ltd./Jilin Pharmaceutical Import and Export Corporation | 4.72 | 10.85
PRC-wide Rate | 144.02 | 144.02

The PRC-wide rate, which is unchanged, applies to all entries of the subject merchandise except for entries from exporters that are identified individually above.

Suspension of Liquidation

In accordance with section 735(c)(1)(B) of the Act, we are directing the Customs Service (“Customs”) to continue suspending liquidation on all imports of the subject merchandise from the PRC. Customs shall require a cash deposit or the posting of a bond equal to the weighted-average amount by which normal value exceeds the export price as indicated in the chart above. These suspension-of-liquidation instructions will remain in effect until further notice.

ITC Notification

In accordance with section 735(d) of the Act, we have notified the International Trade Commission of our amended final determination.

This determination is issued and published in accordance with sections 735(d) and 777(i)(1) of the Act.

Dated: June 21, 2000.
Troy H. Cribb,
Acting Assistant Secretary for Import Administration.

[FR Doc. 00-16238 Filed 6-26-00; 8:45 am]

BILLING CODE 3510-DS-M